NUCLEAR REGULATORY COMMISSION

[Docket No. 40-8584; NRC-2015-0025]

Kennecott Uranium Corporation; Sweetwater Uranium Project

AGENCY: Nuclear Regulatory Commission.

ACTION: Environmental assessment and finding of no significant impact; issuance.

SUMMARY: The U.S. Nuclear Regulatory Commission (NRC) is considering renewal of Source Material License SUA-1350 issued to Kennecott Uranium Corporation (KUC) for continued operations at the Sweetwater Uranium Project (SUP) in Sweetwater County, Wyoming (Docket No. 40-8584). The NRC has prepared an environmental assessment (EA) and finding of no significant impact (FONSI) for this licensing action.

DATES: The EA and FONSI referenced in this document are available on June 8, 2018.

ADDRESSES: Please refer to Docket ID NRC-2015-0025 when contacting the NRC about the availability of information regarding this document. You may obtain publicly-available information related to this document using any of the following methods:

• Federal Rulemaking website: Go to http://www.regulations.gov and search for Docket ID NRC-2015-0025. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Ashley Waldron, Office of Nuclear Material Safety and Safeguards, U.S. Nuclear Regulatory Commission, Washington, DC 20555-0001; telephone: 301-415-7317; email: Ashley.Waldron@nrc.gov.

SUPPLEMENTARY INFORMATION:

I. Introduction

The NRC is considering renewal of Source Material License SUA-1350 issued to Kennecott Uranium Corporation (KUC) for continued operations at the SUP site located in Sweetwater County, Wyoming. As required by part 51 of title 10 of the Code of Federal Regulations (10 CFR), “Environmental Protection Regulations for Domestic Licensing and Related Regulatory Functions,” the NRC performed an EA. Based on the results of the EA, the NRC has determined not to prepare an environmental impact statement (EIS) for the amendment and is issuing a FONSI.

II. Environmental Assessment

Description of the Proposed Action

The proposed action would authorize KUC to operate a conventional uranium mill at the SUP for an additional ten years. The licensee's application dated July 24, 2014, is available at ADAMS Package Accession No. ML14251A113.

Need for the Proposed Action

The proposed action would allow KUC to recover uranium at the SUP. The licensee would process the recovered uranium into yellowcake on site at the SUP. Yellowcake is a type of uranium concentrate powder obtained from leach solutions in an intermediate step in the processing of uranium ores that is used to produce various products, including fuel for commercially-operated nuclear power reactors.

Environmental Impacts of the Proposed Action

The NRC staff has assessed the potential environmental impacts from operations and decommissioning at the SUP. The NRC staff assessed the impacts of the proposed action on land use; historical and cultural resources; visual and scenic resources; climatology, meteorology and air quality; geology, minerals, and soils; water resources; ecological resources; socioeconomics; noise; traffic and transportation; public and occupational health and safety; and waste management. The NRC staff concluded that the renewal of Source Material License SUA-1350 authorizing KUC to continue operations for ten years at the SUP would not significantly affect the quality of the human environment. Approval of the proposed action would not result in increased radiological risk to public health or the environment.

Environmental Impacts of the Alternatives to the Proposed Action

As an alternative to the proposed action, the staff considered denial of the proposed action (i.e., the “no-action” alternative). The no-action alternative would mean that the NRC would not approve license SUA-1350, and KUC would commence decommissioning activities.

Agencies and Persons Consulted

In accordance with its stated policy, on March 26, 2018, the NRC staff consulted with the U.S. Fish and Wildlife Service (FWS), the Wyoming State Historic Preservation Officer (SHPO), and the Wyoming Department of Environmental Quality (WDEQ) regarding the proposed action. The FWS stated that no federally listed or proposed endangered or threatened species occur within the area affected by the proposed action. The SHPO notified NRC that it had no comments related to the historic and cultural resources on the proposed license renewal. The WDEQ stated that it had no comments on the draft EA.

Additional Information

The NRC staff conducted an environmental review in accordance with 10 CFR part 51, which implements the requirements of the National Environmental Policy Act of 1969, as amended (NEPA). The results of the NRC's environmental review can be found in the final EA (ADAMS Accession No. ML18135A206). Based on the results of this environmental assessment, the NRC has determined not to prepare an EIS for license renewal of the SUP and is instead issuing a FONSI.

After weighing the impacts of the license renewal and comparing to the no-action alternative, the NRC staff, in accordance with 10 CFR 51.91(d), sets forth its NEPA recommendation regarding the proposed action (granting the request for renewal of license SUA-1350). Unless safety issues mandate otherwise, the NRC staff's recommendation related to the environmental aspects of the proposed action is that an NRC license renewal be issued.

III. Finding of No Significant Impact

Based on its review of the proposed action, and in accordance with the requirements in 10 CFR part 51, the NRC staff has determined that license renewal of SUP would not significantly affect the quality of the human environment. Based on the EA, the NRC staff determined that approval of the proposed action would not result in a significantly increased radiological risk to public health or the environment. The NRC staff has determined that pursuant to 10 CFR 51.31, preparation of an EIS is not required for the proposed action and, pursuant to 10 CFR 51.32, a FONSI is appropriate.

Dated at Rockville, Maryland, on June 5, 2018.
For the Nuclear Regulatory Commission.
Craig G. Erlanger,
Director, Division of Fuel Cycle Safety, Safeguards, and Environmental Review, Office of Nuclear Material Safety and Safeguards.

[FR Doc. 2018-12350 Filed 6-7-18; 8:45 am]

BILLING CODE 7590-01-P